DEPARTMENT OF COMMERCE

National Oceanic and Atmospheric Administration

50 CFR Part 660

[Docket No. 221206-0261]

RIN 0648-BL48

Magnuson-Stevens Act Provisions; Fisheries Off West Coast States; Pacific Coast Groundfish Fishery; Pacific Coast Groundfish Fishery Management Plan; Amendment 30; 2023-24 Biennial Specifications and Management Measures

Correction

In rule document 2022-26904, appearing on pages 77007 through 77036, in the issue of Friday, December 16, 2022 make the following change:

§ 660.74 Latitude/longitude coordinates defining the 180 fm (329 m) through 250 fm (457 m) depth contours [Corrected]

On page 77022, in “Table 1b. to Part 660, Subpart C—2023”, in the second column, titled “Area”, the fourteenth line for “Longspine thornyhead” should read, “N of 34°27′ N. lat.”

[FR Doc. C1-2022-26904 Filed 12-29-22; 8:45 am]

BILLING CODE 0099-10-P